INTERNATIONAL TRADE COMMISSION

[Investigation Nos. 701-TA-590 and 731-TA-1397 (Review)]

Sodium Gluconate, Gluconic Acid, and Derivative Products From China; Determinations

On the basis of the record ¹ developed in the subject five-year reviews, the United States International Trade Commission (“Commission”) determines, pursuant to the Tariff Act of 1930 (“the Act”), that revocation of the antidumping and countervailing duty orders on sodium gluconate, gluconic acid, and derivative products from China would be likely to lead to continuation or recurrence of material injury to an industry in the United States within a reasonably foreseeable time.

¹ The record is defined in § 207.2(f) of the Commission's Rules of Practice and Procedure (19 CFR 207.2(f)).

Background

The Commission instituted these reviews on October 2, 2023 (88 FR 67807) and determined on January 5, 2024 that it would conduct expedited reviews (89 FR 3426, January 18, 2024).

The Commission made these determinations pursuant to section 751(c) of the Act (19 U.S.C. 1675(c)). It completed and filed its determinations in these reviews on March 15, 2024. The views of the Commission are contained in USITC Publication 5498 (March 2024), entitled Sodium Gluconate, Gluconic Acid, and Derivative Products from China: Investigation Nos. 701-TA-590 and 731-TA-1397 (Review).

By order of the Commission.
Issued: March 15, 2024.
Lisa Barton,
Secretary to the Commission.

[FR Doc. 2024-05919 Filed 3-19-24; 8:45 am]

BILLING CODE 7020-02-P